DEPARTMENT OF THE INTERIOR

Bureau of Land Management

[CACA 048811, LLCAD01500, L51010000.ER0000.14X.LVRWB14B5340]

Notice of Availability of the Final Environmental Impact Statement for the Proposed Right-of-Way Amendment for the Blythe Solar Power Project, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Final Environmental Impact Statement (EIS) for the proposed right-of-way (ROW) amendment for the Blythe Solar Power Project (BSPP), Riverside County, California, and by this notice is announcing its availability.

DATES: The BLM will not issue a final decision on the proposed ROW amendment for a minimum of 30 days after the date that the Environmental Protection Agency publishes its Notice of Availability in the Federal Register.

ADDRESSES: Copies of the Final EIS have been sent to affected Federal, State, and local government agencies, and to other stakeholders. Copies of the Final EIS are available for public inspection at the Palm Springs/South Coast Field Office, 1201 Bird Center Drive, Palm Springs, CA 92262 and the California Desert District Office, 22835 Calle San Juan de Los Lagos, Moreno Valley, CA 92553-9046. Interested persons also may review the Final EIS on the Internet at http://www.blm.gov/ca/st/en/fo/palmsprings/Solar_Projects/Blythe_Solar_Power_Project.html.

FOR FURTHER INFORMATION CONTACT: Frank McMenimen, BLM Project Manager, telephone 760-833-7150; address 1201 Bird Center Drive, Palm Springs, CA 92262; email capssolarblythe@blm.gov. Persons who use a telecommunications device for the deaf (TDD) may call the Federal Information Relay Service (FIRS) at 1-800-877-8339 to contact Mr. McMenimen during normal business hours. The FIRS is available 24 hours a day, 7 days a week to leave a message or question for Mr. McMenimen. You will receive a reply during normal business hours.

SUPPLEMENTARY INFORMATION: The project area is located 8 miles west of Blythe and 3 miles north of Interstate 10 (I-10). The BSPP originally was permitted and approved in 2010 as a 1,000-megawatt (MW) solar thermal generating plant occupying 6,831 acres (Approved Project). On August 22, 2012, the BLM approved the assignment of the ROW Grant from the prior holder, Palo Verde Solar I, LLC, to NextEra Blythe Solar Energy, LLC (Grant Holder). The Grant Holder purchased via bankruptcy the (un-built) project assets in mid-2012 from Palo Verde Solar I, LLC. The Grant Holder then requested a Level 3 variance to the existing Approved Project's ROW grant. The Grant Holder is proposing to construct, operate, maintain, and decommission the BSPP using photovoltaic (PV) technology with a 485-MW capacity on 4,138 acres of BLM-administered public land.

To support this proposal, a request to amend the existing ROW authorization has been submitted to reduce the acreage of the project, change the technology from concentrating solar trough to PV, adjust the project layout in response to the new generation technology and reduce the project's capacity from 1,000 to 485 MWs. These proposed changes are referred to in the Final EIS as the Modified Project. In anticipation of the Modified Project, the Grant Holder voluntarily relinquished approximately 35 percent of the previously approved ROW grant area on March 7, 2013.

The Final EIS fully analyzes the Grant Holder's proposal to construct, operate, maintain, and decommission the Modified Project (Alternative 1), as well as the BLM's denial of the variance request, which would maintain the current ROW grant approvals on the site as modified by the Grant Holder's voluntary relinquishment mentioned above (Alternative 2, No Action). The Final EIS does not supersede or replace the 2010 Proposed Plan Amendment/Final EIS or other elements of the 2010 Approved Project or Plan Amendment, but rather tiers to those documents as appropriate. The Final EIS analyzes the use of PV technology in detail, including any additional site-specific impacts resulting from the change in technology and additional or relocated ancillary facilities. This includes impacts to air quality, biological resources, climate change, cultural resources, hazards and public health, lands and realty, mineral resources, noise, paleontological resources, recreation and special designations, socioeconomics and environmental justice, soil resources, traffic and travel management, visual resources, water resources, and wildland fire ecology.

A number of measures would be implemented to avoid, minimize, rectify, reduce, or compensate for adverse impacts of the Modified Project. These include:

• Biological Resources: Wildlife would be avoided or relocated (e.g., desert tortoise) to the extent feasible through fencing, clearance surveys, and relocation/translocation. The Grant Holder also proposes to implement a Raven Management Plan, Weed Management Plan, Bird and Bat Conservation Strategy, and golden eagle inventory and monitoring. The Grant Holder has also proposed off-site compensatory mitigation to minimize or offset impacts to biological resources.

• Cultural Resources: The Grant Holder proposes to employ cultural resource specialists as monitors during ground disturbance, and to implement long-term protection measures.

• Hazards and Visual Resources: The Grant Holder proposes to document, investigate, evaluate, and attempt to resolve all project-related glare complaints throughout the construction and operation of the project; to use textured glass or anti-reflective coating on all solar panels; and to construct all exposed PV panel support structures with matte or non-reflective surfaces.

• Water Resources: Site hydrology would be designed to retain pre-project flows on the majority of the site, and the Grant Holder would implement a Groundwater Level Monitoring, Mitigation, and Reporting Plan.

The BLM has conducted Native American tribal consultations in accordance with Section 106 of the National Historic Preservation Act and Federal policy in connection with the previously approved BSPP, which resulted in the development of a Programmatic Agreement. During that process, tribes expressed their views and concerns about the importance and sensitivity of specific cultural resources to which they attach religious and cultural significance. The BLM has amended the Programmatic Agreement, consistent with its terms, in response to the Modified Project. In connection with its review of the Modified Project, the BLM will carry out its responsibilities to consult with tribes on a government-to-government basis and other members of the public pursuant to the existing Programmatic Agreement, as amended, and other authorities to the extent applicable and will continue to give tribal concerns due consideration, including impacts to historic properties to which tribes attach religious and cultural significance and Indian trust assets.

Comments on the Draft EIS received from the public and based on internal BLM review were considered and incorporated as appropriate into the Final EIS. Public comments resulted in the addition of clarifying text, but did not significantly change the substantive analysis within the Final EIS.

Authority: 40 CFR 1506.6 & 1506.10.

Thomas Pogacnik,
Deputy State Director.

[FR Doc. 2014-12572 Filed 5-29-14; 8:45 am]

BILLING CODE 4310-40-P